DEPARTMENT OF HEALTH AND HUMAN SERVICES

Centers for Disease Control and Prevention

[60-Day-19-1097; Docket No. CDC-2019-0033]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Monitoring and Reporting System for the National Tobacco Control Program. This information collection is requested by CDC to monitor progress in the states and territories funded through two CDC cooperative agreements

DATES: CDC must receive written comments on or before June 24, 2019.

ADDRESSES: You may submit comments, identified by Docket No. CDC-2019-0033 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Monitoring and Reporting System for the National Tobacco Control Program—Reinstatement with Change—National Center for Chronic Disease Prevention and Health Promotion (NCCDPHP), Centers for Disease Control and Prevention (CDC).

Background and Brief Description

The Centers for Disease Control and Prevention (CDC) works with states, territories, tribal organizations, and the District of Columbia (collectively referred to as “state-based” programs) to develop, implement, manage, and evaluate tobacco prevention and control programs. Support and guidance for these programs have been provided through cooperative agreement funding and technical assistance administered by CDC's National Center for Chronic Disease Prevention and Health Promotion (NCCDPHP). Partnerships and collaboration with other federal agencies, nongovernmental organizations, local communities, public and private sector organizations, and major voluntary associations have been critical to the success of these efforts. NCCDPHP cooperative agreements DP15-1509 (National State-Based Tobacco Control Programs) and DP14-1410PPHF14 (Public Health Approaches for Ensuring Quitline Capacity) continue to support efforts since 1999 to build state health department infrastructure and capacity to implement comprehensive tobacco prevention and control programs. Through these cooperative agreements, health departments in all 50 states, the District of Columbia, Puerto Rico and Guam are funded to implement evidence-based environmental, policy, and systems strategies and activities designed to reduce tobacco use, secondhand smoke exposure, tobacco related disparities and associated disease, disability, and death.

CDC requests OMB approval to collect information from the 53 state-based programs funded under both DP15-1509 and DP14-1410PPHF14. Awardees will report information about their work plan objectives, activities, infrastructure, and performance measures. Each awardee will submit an Annual Work Plan Progress Report using an Excel-based Work Plan Tool. The estimated burden per response on each of the abovementioned tools is six hours for each. Each awardee will also submit an Annual Performance Measure report using an Excel-based Performance Measures tool. The estimated burden per response for this tool is five hours. Additionally, each awardee will submit an Annual Progress Report (APR) using an Excel-based APR tool. The estimated burden per response for the APR tool is 18 hours for each. Awardees will also submit an Annual Component Model of Infrastructure (CMI) using an Excel-based CMI tool, with an estimated burden per response of three hours, and an Annual Budget Progress Report using an Excel-based Budget Tool, with an estimated burden per response of five hours. The same instruments will be used for all information collection and reporting throughout the OMB approval period. Awardees will upload their information to www.grantssolutions.gov on an annual basis to satisfy routine cooperative agreement reporting requirements.

CDC will use the information collected to monitor each awardee's progress and to identify facilitators and challenges to program implementation and achievement of outcomes. Monitoring allows CDC to determine whether an awardee is meeting performance and budget goals and to make adjustments in the type and level of technical assistance provided to them, as needed, to support attainment of their performance measures.

Monitoring and evaluation activities also allow CDC to provide oversight of the use of federal funds, and to identify and disseminate information about successful prevention and control strategies implemented by awardees. These functions are central to NCCDPHP's broad mission of reducing the burden of chronic diseases. Finally, the information collection will allow CDC to monitor the increased emphasis on partnerships and programmatic collaboration, and is expected to reduce duplication of effort, enhance program impact and maximize the use of federal funds. OMB approval is requested for three years. Participation in the information collection is required as a condition of funding. There are no costs to respondents other than their time.

Estimated Annualized Burden Hours
Type of respondents | Form name | Number of respondents | Number of responses per respondent | Average burden per response (in hours) | Total burden (in hours)
State Tobacco Control Managers | Annual Work Plan Progress Report | 53 | 1 | 6 | 318
| Annual Budget Progress Report | 53 | 1 | 5 | 265
| Annual Performance Measures Progress Report | 53 | 1 | 5 | 265
| Annual CMI Progress Report | 53 | 1 | 3 | 159
| Annual APR Report | 53 | 1 | 18 | 954
Total |  |  |  |  | 1,961

Jeffrey M. Zirger,
Lead, Information Collection Review Office, Office of Scientific Integrity, Office of Science, Centers for Disease Control and Prevention.

[FR Doc. 2019-08153 Filed 4-22-19; 8:45 am]

BILLING CODE 4163-18-P